DEPARTMENT OF HOMELAND SECURITY

Federal Emergency Management Agency

44 CFR Part 64

[Docket No. FEMA-7774]

List of Communities Eligible for the Sale of Flood Insurance

AGENCY: Federal Emergency Management Agency, Emergency Preparedness and Response Directorate, Department of Homeland Security.

ACTION: Final rule.

SUMMARY: This rule identifies communities participating in the National Flood Insurance Program (NFIP) and suspended from the NFIP. These communities have applied to the program and have agreed to enact certain floodplain management measures. The communities' participation in the program authorizes the sale of flood insurance to owners of property located in the communities listed.

EFFECTIVE DATES: The dates listed under the column headed Effective Date of Eligibility.

ADDRESSES: Flood insurance policies for property located in the communities listed can be obtained from any licensed property insurance agent or broker serving the eligible community, or from the NFIP at: (800) 638-6620.

FOR FURTHER INFORMATION CONTACT: Mike Grimm, Mitigation Division, 500 C Street, SW.; Room 412, Washington, DC 20472, (202) 646-2878.

SUPPLEMENTARY INFORMATION: The NFIP enables property owners to purchase flood insurance which is generally not otherwise available. In return, communities agree to adopt and administer local floodplain management measures aimed at protecting lives and new construction from future flooding. Since the communities on the attached list have recently entered the NFIP, subsidized flood insurance is now available for property in the community.

In addition, the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or federally related financial assistance for acquisition or construction of buildings in the special flood hazard areas shown on the map.

The Administrator finds that delayed effective dates would be contrary to the public interest and that notice and public procedure under 5 U.S.C. 553(b) are impracticable and unnecessary.

National Environmental Policy Act. This rule is categorically excluded from the requirements of 44 CFR Part 10, Environmental Considerations. No environmental impact assessment has been prepared.

Regulatory Flexibility Act. The Administrator certifies that this rule will not have a significant economic impact on a substantial number of small entities in accordance with the Regulatory Flexibility Act, 5 U. S. C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64.

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State/location | Community No. | Effective date of eligibility | Current effective map date
New Eligibles: Emergency Program
Georgia:
Glenwood, City of, Wheeler County | 130419 | Jan. 6, 2004 | Apr. 4, 1975 FHBM.
Elbert County, Unincorporated Areas | 135264 | ......do* | Never Mapped.
Minnesota: Avoca, City of, Murray County | 270552 | Jan. 20, 2004 | Jan. 10, 1975 FHBM.
Indiana: Warren County, Unincorporated Areas | 180448 | Feb. 25, 2004 | Dec. 10, 1978 FHBM.
Texas: Potter County, Unincorporated Areas | 481241 | ......do | Dec. 6, 1977 FHBM.
North Carolina: Connelly Springs, Town of, Burke County | 370600 | Mar. 12, 2004 | Never Mapped.
Texas: Concho County, Unincorporated Areas | 480762 | Mar. 14, 2004 | Do.
Massachusetts: Tyringham, Town of, Berkshire County | 250043 | Apr. 1, 2004 | Nov. 29, 1974 FHBM.
New Hampshire: Loudon, Town of, Merrimack County | 330117 | Apr. 2, 2004 | Sept. 28, 1979 FHBM.
Arkansas:
Nevada County, Unincorporated Areas | 050454 | Apr. 15, 2004 | Aug. 9, 1977 FHBM.
Winchester, City of, Drew County | 050077 | ......do | Oct. 10, 1975 FHBM.
Maine:
Alna, Town of, Lincoln County | 230083 | May 6, 2004 | Jan. 3, 1975.
Kansas: Onaga, City of, Pottawatomie County | 200544 | May 13, 2004 | Aug. 13, 1976 FHBM.
Maryland: Galestown, Town of, Dorchester County | 240106 | June 2, 2004 | July 11, 1975.
Tennessee: Townsend, City of, Blount County | 470281 | ......do | June 18, 1976.
Vermont: Danville, Town of, Caledonia County | 500185 | June 7, 2004 | Jan. 17, 1975.
North Carolina: Hildebran, Town of, Burke County | 370519 | ......do | Never Mapped.
Iowa: Hazleton, City of, Buchanan County | 190330 | July 8, 2004 | May 28, 1976 FHBM.
Colorado: New Castle, Town of, Garfield County | 080256 | July 22, 2004 | July 25, 1975 FHBM.
Utah: Daggett County, Unincorporated Areas | 490230 | ......do | Never Mapped.
Nebraska: Elba, Village of, Howard County | 310514 | Aug. 5, 2004 | Do.
Texas: Kress, City of, Swisher County | 481012 | Aug. 31, 2004 | Feb. 21, 1975 FHBM.
Kansas: Lincoln County, Unincorporated Areas | 200591 | Aug. 23, 2004 | Never Mapped.
Missouri: Edmundson, City of, St. Louis County | 280729 | Aug. 31, 2004 | Never Mapped.
Kentucky: London, City of, Laurel County | 210396 | Sept. 8, 2004 | Never Mapped.
Texas: Fannin County, Unincorporated Areas | 480807 | Sept. 9, 2004 | Dec. 8, 1977 FHBM.
New Eligibles: Regular Program
North Carolina:
Bethel, Town of, Pitt County ** | 370546 | Jan. 2, 2004 | Jan. 2, 2004.
Falkland, Town of, Pitt County ** | 370666 | ......do | Do.
Grimesland, Town of, Pitt County ** | 370535 | ......do | Do.
Simpson Village of, Pitt County ** | 370615 | ......do | Do.
Nebraska: Kearney County, Unincorporated Areas ** | 310448 | Jan. 16, 2004 | Jan. 16, 2004.
Washington: Lummi Indian Reservation, Tribe of, Whatcom County ** | 530331 | ......do | Do.
Nebraska: Nickerson, Town of, Dodge County | 310070 | Jan. 20, 2004 | NSFHA.
Arkansas: Dyer, Town of, Crawford County | 050408 | Jan. 30, 2004 | Dec. 20, 2000.
Missouri: Fair Grove, City of, Greene County | 290591 | ......do | June 27, 1975 FHBM Rescinded. Adopted Green County FIRM panel 0025B, dated June 15, 1983.
North Carolina: Alleghany County, Unincorporated Areas ** | 370004 | Feb. 1, 2004 | Feb. 1, 2004.
North Carolina:
Huntersville, Town of, Mecklenburg County ** | 370478 | Feb. 4, 2004 | Feb. 4, 2004.
Matthews, Town of, Mecklenburg County ** | 370310 | ......do | Do.
Washington: Anacortes, City of, Skagit County ** | 530317 | Feb. 23, 2004 | Sept. 17, 2003.
Prescott, Town of, Walla Walla County. ** | 530259 | ......do | Jan. 18, 2002.
Wisconsin: Markesan, City of, Green Lake County. ** | 550169 | ......do | July 2, 2003.
Maine: Washington, Town of, Knox County.** | 230082 | Mar. 1, 2004 | Mar. 1, 2004.
New York: Atlantic Beach, Village of, Nassau County | 360458 | Mar. 9, 2004 | Use Town of Hempstead (CID 360467) FIRM panels 0284, 0303, and 0304.
North Carolina: Beech Mountain, Town of, Watauga County | 370480 | Mar. 12, 2004 | Use Watauga County (CID 370254) panels 0150, 0151, and 0153.
West Virginia: Pleasant Valley, City of, Marion County | 540292 | Mar. 29, 2004 | Use Marion County (CID 540097) FIRM panels 0079 and 0090 dated July 2, 1992; 0085 dated Oct. 18, 1995; 0095 and 0097 dated July 4, 1988.
Missouri: Christian County, Unincorporated Areas. ** | 290847 | Apr. 1, 2004 | Apr. 1, 2004.
Duenweg, City of, Jasper County | 290182 | ......do | Use Jasper County (CID 290807) FIRM panels 0180 and 0190 dated Apr. 17, 1985.
Hillsboro, City of, Jefferson County | 290573 | ......do | Apr. 1, 2004.
Taney County, Unincorporated Areas | 290435 | ......do | Do.
Texas: Beasley, City of, Fort Bend County | 481654 | ......do | Apr. 20, 2000 All Zone C.
Crockett County, Unincorporated Areas. ** | 480158 | ......do | Apr. 1, 2004.
Erath County, Unincorporated Areas. ** | 480218 | ......do | Do.
Karnes County, Unincorporated Areas. ** | 481175 | ......do | Do.
Navaro County, Unincorporated Areas. ** | 480950 | ......do | Do.
Van Zandt County, Unincorporated Areas. ** | 481040 | ......do | Do.
Washington: Spokane Valley, City of, Spokane County | 530342 | ......do | Use Spokane County (CID 530174) FIRM panels 0285, 0294, 0300, 0304, 0315, 0382 and 0401 dated Sept. 30, 1992.
Alabama: Taylor, Town of, Houston County | 010108 | Apr. 15, 2004 | Nov. 21, 2002.
Texas: Volente, Village of, Travis County | 481696 | ......do | Use Travis County (CID 481026) FIRM panel 0280E dated June 16, 1993.
Arkansas: Cherokee Village, City of, Sharp County. ** | 050603 | Apr. 16, 2004 | Apr. 16, 2004.
Illinois: Williamsville, Village of, Sangamon County. ** | 171041 | May 3, 2004 | May 3, 2004.
Oklahoma: Commerce, City of, Ottawa County | 400156 | May 5, 2004 | July 18, 1985.
Florida: Doral, City of, Miami-Dade County | 120041 | May 12, 2004 | Use Miami-Dade County (CID 120635) FIRM panels 0075, 0160, 0170 dated Mar. 2, 1994.
Arkansas: Georgetown, Town of, White County. ** | 050605 | May 13, 2004 | Use the White County (CID 050467) FIRM panel 0015 dated Mar. 1, 2000.
Illinois: Coles County, Unincorporated Areas | 170986 |  | Aug. 5, 1985.
Spaulding, Village of, Sangamon County | 171050 | ......do | May 3, 2004.
Kansas: Mitchell County, Unincorporated Areas | 200225 | ......do | June 15, 1988.
New Hampshire: Chichester, Town of, Merrimack County | 330109 | May 14, 2004 | Sept. 1, 1978.
New York: Victor, Village of, Ontario County.** | 361648 | May 17, 2004 | May 17, 2004.
Ohio: Glendale, Village of, Hamilton County.** | 390217 | ......do | Do.
Wisconsin: Suamico, Village of, Brown County | 550660 | May 24, 2004 | Nov. 4, 1992.
Arkansas: Lincoln, City of, Washington County | 050338 | June 1, 2004 | Dec. 20, 2000.
Plainview, City of, Yell County | 050363 | ......do | Mar. 4, 2003.
Prairie Grove, City of, Washington County | 050587 | ......do | Dec. 2000.
Georgia: McDonough, City of, Henry County.** | 130342 | ......do | June 1, 2004.
Indiana: Sheridan, Town of, Hamilton County | 180516 | ......do | Feb. 19, 2003.
Illinois: Trenton, City of, Clinton County | 170924 | June 2, 2004 | June 2, 2004.
California: Goleta, City of, Santa Barbara County | 060771 | ......do | Do.
Alabama: Valley Grande, City of, Dallas County | 010312 | June 8, 2004 | Use Dallas County. (CID 010063) FIRM panels 0020, 0025, 0040, 0050, and 0070 dated Sept. 29, 1986.
Florida: Miami Gardens, City of, Miami-Dade County | 120345 | June 21, 2004 | Use Miami-Dade. County (CID 120635) FIRM panels 0080, 0082, 0083 and 0090 dated Mar. 2, 1994.
California: Laguna Woods, City of, Orange County | 060768 | June 25, 2004 | Feb. 18, 2004.
Missouri: Lake Annette, City of, Cass County | 290953 | ......do | Use Cass County (CID 290783) FIRM panel 0100 dated May 4, 1992.
North Carolina: Cove City, Town of, Craven County.** | 370601 | July 2, 2004 | July 16, 2004.
LaGrange, Town of, Lenoir County.** | 370579 | ......do | Do.
Texas: Salado, City of, Bell County | 480033 | July 8, 2004 | Use Bell County (CID 480706) FIRM panels 0280 and 0345 dated Feb. 15, 1984.
Wisconsin: New Richmond, City of, St. Croix County.** | 550384 | July 16, 2004 | July 16, 2004.
Texas: East Bernard, City of, Wharton County | 480650 | July 22, 2004 | Use Wharton County (CID 480652) FIRM panel 0150 dated Nov. 7, 2001.
New Hampshire: Loudon, Town of, Merrimack County.** | 330117 | Aug. 1, 2004 | Aug. 1, 2004.
Georgia: Ailey, City of, Montgomery County.** | 130360 | ......do | Do.
Glenwood, City of, Wheeler County.** | 130419 | ......do | Do.
Ohio: Sherwood, Village of, Defiance County | 390859 | Aug. 9, 2004 | Rescinded FHBM. Use Defiance County (CID 390143) FIRM panel 0105 dated Aug. 2, 1990.
Alabama: Ohatchee, Town of, Calhoun County | 010232 | Aug. 18, 2004 | Use Calhoun County (CID 010013) FIRM panels 0025 and 0125 dated Sept. 15, 1983.
Arkansas: Enola, City of, Faulkner County | 050589 | Aug. 23, 2004 | Sept. 27, 1991—All Zone C—No published FIRM.
Utah: Holladay, City of, Salt Lake County | 490253 | Aug. 24, 2004 | Use Salt Lake County (CID 490102) FIRM panels 0312 and 0314 dated Sept. 21,2001.
Georgia: Molena, City of, Pike County.** | 130376 | Sept. 1, 2004 | Sept. 1, 2004.
Kansas: Douglass, City of, Butler County | 200489 | ......do | All Zone C—No Published FIRM.
Arkansas: Springtown, Town of, Benton County | 050004 | Sept. 9, 2004 | Use Benton County (CID 050419) FIRM panel 0140 dated Sept. 18, 1991.
California: Rancho Cordova, City of, Sacramento County | 060772 | Sept. 15, 2004 | Use Sacramento County (CID 060262) FIRM panels 0205, 0210, 0215 and 0220 dated May 22, 2000.
Reinstatements
Arkansas: Tupelo, City of, Jackson County | 050106 | June 4, 1975 Emerg.; Jan. 23, 1979, Reg.; Aug. 16, 1988, Susp.; Jan. 30, 2004 Rein | NSFHA.
Illinois:
Freeburg, Village of, St. Clair County | 170790 | Mar. 24, 1976, Emerg.; Jan. 18, 1980, Reg.; Nov. 7, 2003, Susp.; Feb. 4, 2004, Rein | Nov. 5, 2003.
New Athens, Village of, St. Clair County | 170632 | Sept. 3, 1975, Emerg.; Mar. 23, 1984, Reg.; Nov. 7, 2003, Susp.; Feb. 4, 2004, Rein | Do.
Georgia: Hart County, Unincorporated Areas | 130467 | Sept. 26, 1978 Emerg.; Sept. 1, 1987, Reg.; Sept. 1, 1987, Susp.; Mar. 12, 2004, Rein | Sept. 1, 1987.
Ohio: Crown City, Village of, Gallia County | 390187 | Apr. 22, 1983, Emerg.; July 5, 1983, Reg.; Oct. 22, 2003, Susp.; Apr. 1, 2004, Rein | Oct. 16, 2003.
New Mexico: Eddy County, Unincorporated Areas | 350120 | Oct. 22, 1975, Emerg.; Jan. 18, 1989, Susp.; Apr. 22, 2004, Rein; Apr. 22, 2004, Reg | June 4, 1996.
Pennsylvania: Findley, Township of, Mercer County | 421866 | Aug. 12, 1975, Emerg.; Feb. 4, 1983, Reg.; Sept. 2, 1993, Susp.; June 2, 2004, Rein | Feb. 4, 1983.
Illinois:
Auburn, City of, Sangamon County | 170944 | May 13, 1980, Emerg.; Aug. 19, 1985, Reg.; May 4, 2004, Susp.; June 4, 2004, Rein | May 3, 2004.
Summerfield, Village of, St. Clair County | 170636 | Aug. 11, 1976, Emerg.; Aug. 10, 1979, Reg.; Nov. 7, 2003, Susp.; June 4, 2004, Rein | Nov. 5, 2003.
Fayetteville, Village of, St. Clair County | 170628 | May 12, 1976, Emerg.; June 15, 1981, Reg.; Nov. 7, 2003, Susp.; June 9, 2004, Rein | Nov. 5, 2003.
Ohio: Evendale, Village of, Hamilton County | 390214 | June 27, 1977, Emerg.; Sept. 29, 1986, Reg.; May 18, 2004, Susp.; June 21, 2004, Rein | May 17, 2004.
Alabama: Ragland, Town of, St. Clair County | 010190 | June 26, 1975, Emerg.; June 3, 1986, Reg.; June 3, 1986, Susp.; July 15, 2004, Rein | June 3, 1986.
Maine: Hope, Town of, Knox County | 230226 | Apr. 5, 1976, Emerg.; February 19, 1986, Reg.; Feb. 19, 1986, Susp.; July 23, 2004, Rein | Feb. 19, 1986.
Nebraska: Talmage, Village of, Otoe County | 310167 | Dec. 23, 1974, Emerg.; June 1, 1982, Reg.; June 1, 1982, Susp.; Aug. 9, 2004, Rein | Aug. 9, 2004.
Minnesota: Brooklyn Park, City of, Hennepin County | 270152 | Feb. 5, 1974, Emerg.; May 17, 1982, Reg.; Sept. 3, 2004, Susp.; Sept. 27, 2004, Rein | Sept. 2, 2004.
Suspensions
North Carolina: Youngsville, Town of, Franklin County | 370494 | June 30, 1997, Emerg.; Jan. 19, 2001, Reg., Jan. 17, 2004, Susp | Jan. 16, 2004.
Illinois: Auburn, City of, Sangamon County | 170944 | May 13, 1980, Emerg.; Aug. 19, 1985, Reg.; May 4, 2004, Susp | May 3, 2004.
Ohio: Evendale, Village of, Hamilton County | 390214 | June 27, 1977, Emerg.; Sept. 29, 1986, Reg.; May 18, 2004, Susp | May 17, 2004.
Illinois: Keyesport, Village of, Clinton County | 170860 | July 19, 1978, Emerg.; Aug. 19, 1985, Reg.; June 3, 2004, Susp | June 2, 2004.
Minnesota: Brooklyn Park, City of, Hennepin County | 270152 | Feb. 5, 1974, Emerg.; May 17, 1982, Reg.; Sept. 3, 2004, Susp | Sept. 2, 2004.
Greenwood, City of, Hennepin County | 270164 | July 25, 1975, Emerg.; Dec. 26, 1978, Reg.; Sept. 3, 2004, Susp | Do.
Minnetonka Beach, City of, Hennepin County | 270174 | June 9, 1975, Emerg.; June 22, 1984, Reg.; Sept. 3, 2004, Susp | Do.
New Hope, City of, Hennepin County | 270177 | July 2, 1975, Emerg.; Jan. 2, 1981, Reg.; Sept. 3, 2004, Susp | Do.
Shorewood, City of, Hennepin County | 270185 | Apr. 8, 1975, Emerg.; Dec. 4, 1979, Reg.; Sept. 3, 2004, Susp | Do.
St. Anthony, City of, Hennepin County | 270716 | Feb. 26, 1998, Emerg.; Sept. 2, 2004, Reg.; Sept. 3, 2004, Susp | Do.
Withdrawals
Alaska: Haines, City of, Haines Borough | 020008 | June 16, 2004 | May 1, 1987 (Community disincorporated and the area was absorbed into the surrounding Borough which does not participate in the NFIP.)
West Virginia: Littleton, Town of, Wetzel County | 540255 | Sept. 27, 2004 | Aug. 24, 1984 (On Aug. 10, 2004, Headquarters received a request from State Office of Emergency Management with concurrence from the Regional Office requesting that the Town of Littleton be removed from the NFIP).
NFIP Community Suspension Rescissions
Region V
Ohio: Medina County, Unincorporated Areas | 390378 | Dec. 2, 2003, Suspension Notice Rescinded | Dec. 2, 2003.
Region VII
Kansas: Gridley, City of, Coffey County | 200064 | ......do | Do.
Region III
Pennsylvania:
College, Township of, Centre County | 420259 | Dec. 16, 2004, Suspension Notice Rescinded | Dec. 16, 2004.
Harris, Township of, Centre County | 420262 | ......do | Do.
Region II
New York: Dover, Town of, Duchess County | 361335 | Jan. 2, 2004, Suspension Notice Rescinded | Jan. 2, 2004.
Region I
Massachusetts: Chelmsford, Town of, Middlesex County | 250188 | Jan. 16, 2004, Suspension Notice Rescinded | Jan. 16, 2004.
Region IV
North Carolina:
Columbia, Town of, Tyrrell County | 370233 | ......do | Do.
Franklin County, Unincorporated Areas | 370377 | ......do | Do.
Franklinton, Town of, Franklin County | 370497 | ......do | Do.
Louisburg, Town of, Franklin County | 370098 | ......do | Do.
Region VII
Nebraska:
Axtell, Village of, Kearney County | 310344 | ......do | Do.
Kearney County, Unincorporated Areas | 310448 | ......do | Do.
Minden, City of, Kearney County | 310389 | ......do | Do.
Region III
Virginia: Bristol, Independent City | 510022 | Feb. 4, 2004, Suspension Notice Rescinded | Feb. 4, 2004.
Region V
Illinois:
Hanover Park, Village of, Cook County, Du Page County | 170099 | ......do | Do.
Schaumburg, Village of, Cook County, Du Page County | 170158 | ......do | Do.
Cook County, Unincorporated Areas | 170054 | ......do | Do.
Region V
Ohio:
Fayette County, Unincorporated Areas | 390164 | Mar. 2, 2004, Suspension Notice Rescinded | Mar. 2, 2004.
Jeffersonville, Village of, Fayette County | 390165 | ......do | Do.
Washington Court House, City of, Fayette County | 390166 | ......do | Do.
Region III
Pennsylvania:
Anthony, Township of, Lycoming County | 420971 | Mar. 16, 2004, Suspension Notice Rescinded | Mar. 16, 2004.
Armstrong, Township of, Lycoming County | 420635 | ......do | Do.
Bastress, Township of, Lycoming County | 422472 | ......do | Do.
Brady, Township of, Lycoming County | 421169 | ......do | Do.
Brown, Township of, Lycoming County | 420636 | ......do | Do.
Cascade, Township of, Lycoming County | 421837 | ......do | Do.
Clinton, Township of, Lycoming County | 420637 | ......do | Do.
Cogan House, Township of, Lycoming County | 421838 | ......do | Do.
Cummings, Township of, Lycoming County | 420638 | ......do | Do.
Duboistown, Borough of, Lycoming County | 420639 | ......do | Do.
Eldred, Township of, Lycoming County | 421839 | ......do | Do.
Fairfield, Township of, Lycoming County | 420972 | ......do | Do.
Franklin, Township of, Lycoming County | 420973 | ......do | Do.
Gamble, Township of, Lycoming County | 420974 | ......do | Do.
Hepburn, Township of, Lycoming County | 420640 | ......do | Do.
Hughesville, Borough of, Lycoming County | 420641 | ......do | Do.
Jackson, Township of, Lycoming County | 422601 | ......do | Do.
Jersey Shore, Borough of, Lycoming County | 420642 | ......do | Do.
Jordan, Township of, Lycoming County | 422596 | ......do | Do.
Lewis, Township of, Lycoming County | 420643 | ......do | Do.
Limestone, Township of, Lycoming County | 422588 | ......do | Do.
Loyalsock, Township of, Lycoming County | 421040 | ......do | Do.
Lycoming, Township of, Lycoming County | 420644 | ......do | Do.
McHenry, Township of, Lycoming County | 420975 | ......do | Do.
McIntyre, Township of, Lycoming County | 420645 | ......do | Do.
McNett, Township of, Lycoming County | 422597 | ......do | Do.
Mifflin, Township of, Lycoming County | 422590 | ......do | Do.
Mill Creek, Township of, Lycoming County | 421845 | ......do | Do.
Montgomery, Borough of, Lycoming County | 420646 | ......do | Do.
Montoursville, Borough of, Lycoming County | 420648 | ......do | Do.
Moreland, Township of, Lycoming County | 421846 | ......do | Do.
Muncy Creek, Township of, Lycoming County | 420650 | ......do | Do.
Muncy, Borough of, Lycoming County | 420649 | ......do | Do.
Muncy, Township of, Lycoming County | 421847 | ......do | Do.
Nippenose, Township of, Lycoming County | 420651 | ......do | Do.
Old Lycoming, Township of, Lycoming County | 420652 | ......do | Do.
Penn, Township of, Lycoming County | 421848 | ......do | Do.
Piatt, Township of, Lycoming County | 420653 | ......do | Do.
Picture Rocks, Borough of, Lycoming County | 420654 | ......do | Do.
Pine, Township of, Lycoming County | 420954 | ......do | Do.
Plunketts Creek, Township of, Lycoming County | 420655 | ......do | Do.
Porter, Township of, Lycoming County | 420656 | ......do | Do.
Salladasburg, Borough of, Lycoming County | 420657 | ......do | Do.
Shrewsbury, Township of, Lycoming County | 421148 | ......do | Do.
South Williamsport, Borough of, Lycoming County | 420658 | ......do | Do.
Susquehanna, Township of, Lycoming County | 420659 | ......do | Do.
Upper Fairfield, Township of, Lycoming County | 420660 | ......do | Do.
Washington, Township of, Lycoming County | 422613 | ......do | Do.
Watson, Township of, Lycoming County | 420661 | ......do | Do.
Williamsport, City of, Lycoming County | 420662 | ......do | Do.
Wolf, Township of, Lycoming County | 420663 | ......do | Do.
Woodward, Township of, Lycoming County | 420664 | ......do | Do.
Region V
Ohio:
Bexley, City of, Franklin County | 390168 | ......do | Do.
Columbus, City of, Fairfield County, Franklin County | 390170 | ......do | Do.
Dublin, City of, Delaware County, Franklin County | 390673 | ......do | Do.
Franklin County, Unincorporated Areas | 390167 | ......do | Do.
Grandview Heights, City of, Franklin County | 390172 | ......do | Do.
Grove City, City of, Franklin County | 390173 | ......do | Do.
Marble Cliff, Village of, Franklin County | 390896 | ......do | Do.
Obetz, Village of, Franklin County | 390176 | ......do | Do.
Upper Arlington, City of, Franklin County | 390178 | ......do | Do.
Region II
New York:
Blenheim, Town of, Schoharie County | 361580 | Apr. 2, 2004, Suspension Notice Rescinded | Apr. 2, 2004.
Broome, Town of, Schoharie County | 361431 | ......do | Do.
Cobleskill, Town of, Schoharie County | 361573 | ......do | Do.
Cobleskill, Village of, Schoharie County | 360743 | ......do | Do.
Esperance, Town of, Schoharie County | 361194 | ......do | Do.
Esperance, Village of, Schoharie County | 361542 | ......do | Do.
Schoharie, Village of, Schoharie County | 361061 | ......do | Do.
Sharon Springs, Village of, Schoharie County | 361549 | ......do | Do.
Wright, Town of, Schoharie County | 361202 | ......do | Do.
Region V
Minnesota: Jackson, City of, Jackson County | 270213 | ......do | Do.
Region X
Oregon:
Talent, City of, Jackson County | 410100 April | Apr. 16, 2004, Suspension Notice Rescinded | Apr. 16, 2004.
Tillamook, City of, Jackson County | 410202 | ......do | Do.
Region V
Illinois:
Auburn, City of, Sangamon County | 170944 | May 3, 2004, Suspension Notice Rescinded | May 3, 2004.
Chatham, Village of, Sangamon County | 170601 | ......do | Do.
Divernon, Village of, Sangamon County | 170949 | ......do | Do.
Jerome, Village of, Sangamon County | 171004 | ......do | Do.
Leland Grove, City of, Sangamon County | 170925 | ......do | Do.
Loami, Village of, Sangamon County | 170795 | ......do | Do.
Pawnee, Village of, Sangamon County | 170602 | ......do | Do.
Pleasant Plains, Village of, Sangamon County | 170798 | ......do | Do.
Riverton, Village of, Sangamon County | 170603 | ......do | Do.
Rochester, Village of, Sangamon County | 170840 | ......do | Do.
Sangamon County, Unincorporated Areas | 170912 | ......do | Do.
Sherman, Village of, Sangamon County | 170969 | ......do | Do.
Springfield, City of, Sangamon County | 170604 | ......do | Do.
Thayer, Village of, Sangamon County | 170804 | ......do | Do.
Williamsville, Village of, Sangamon County | 171041 | ......do | Do.
Region II
New Jersey: Greenwich, Township of, Warren County | 340483 | May 17, 2004 Suspension Notice Rescinded | May 17, 2004.
New York:
Schuyler Falls, Town of, Clinton County | 360172 | ......do | Do.
Victor, Village of, Ontario County | 361648 | ......do | Do.
Woodstock, Town of, Ulster County | 360868 | ......do | Do.
Region V
Ohio:
Addyston, Village of, Hamilton County | 390205 | ......do | Do.
Amberley, Village of, Hamilton County | 390206 | ......do | Do.
Arlington Heights, Village of, Hamilton County | 390207 | ......do | Do.
Blue Ash, City of, Hamilton County | 390208 | ......do | Do.
Cincinnati, City of, Hamilton County | 390210 | ......do | Do.
Cleves, Village of, Hamilton County | 390211 | ......do | Do.
Elmwood Place, Village of, Hamilton County | 390213 | ......do | Do.
Fairfax, Village of, Hamilton County | 390215 | ......do | Do.
Glendale, Village of, Hamilton County | 390217 | ......do | Do.
Greenhills, Village of, Hamilton County | 390219 | ......do | Do.
Hamilton County, Unincorporated Areas | 390204 | ......do | Do.
Harrison, City of, Hamilton County | 390220 | ......do | Do.
Indian Hill, Village of, Hamilton County | 390221 | ......do | Do.
Lockland, Village of, Hamilton County | 390223 | ......do | Do.
Loveland, City of, Hamilton County | 390068 | ......do | Do.
Madeira, City of, Hamilton County | 390225 | ......do | Do.
Montgomery, City of, Hamilton County | 390228 | ......do | Do.
Mount Healthy, City of, Hamilton County | 390229 | ......do | Do.
Newtown, Village of, Hamilton County | 390230 | ......do | Do.
North Bend, Village of, Hamilton County | 390231 | ......do | Do.
North College Hill, City of, Hamilton County | 390232 | ......do | Do.
Reading, City of, Hamilton County | 390234 | ......do | Do.
Sharonville, City of, Hamilton County | 390236 | ......do | Do.
Springdale, City of, Hamilton County | 390877 | ......do | Do.
St. Bernard, City of, Hamilton County | 390235 | ......do | Do.
Terrace Park, Village of, Hamilton County | 390633 | ......do | Do.
Woodlawn, Village of, Hamilton County | 390239 | ......do | Do.
Wyoming, City of, Hamilton County | 390240 | ......do | Do.
Region VIII
North Dakota:
Fort Yates, City of, Sioux County | 380111 | ......do | Do.
Sioux County, Unincorporated Areas | 380321 | ......do | Do.
Solen, City of, Sioux County | 380114 | ......do | Do.
Standing Rock Indian Reservation, Sioux County | 380697 | ......do | Do.
South Dakota:
Blunt, City of, Hughes County | 460039 | ......do | Do.
Corson County, Unincorporated Areas | 460237 | ......do | Do.
Fort Pierre, City of, Stanley County | 465419 | ......do | Do.
Hughes County, Unincorporated Areas | 460271 | ......do | Do.
Pierre, City of, Hughes County | 460040 | ......do | Do.
Standing Rock Indian Reservation, Corson County | 461219 | ......do | Do.
Stanley County, Unincorporated Areas | 460287 | ......do | Do.
Region IV
North Carolina:
Alliance, Town of, Pamlico County | 370404 | July 2, 2004 Suspension Notice Rescinded | July 2, 2004.
Bayboro, Town of, Pamlico County | 370183 | ......do | Do.
Bridgeton, Town of, Craven County | 370436 | ......do | Do.
Havelock, City of, Craven County | 370265 | ......do | Do.
Jones County, Unincorporated Areas | 370379 | ......do | Do.
Kinston, City of, Lenoir County | 370145 | ......do | Do.
LaGrange, Town of, Lenoir County | 370579 | ......do | Do.
Maysville, Town of, Jones County | 370330 | ......do | Do.
Minnesott Beach, Town of, Pamlico County | 370418 | ......do | Do.
New Bern, City of, Craven County | 370074 | ......do | Do.
Oriental, Town of, Pamlico County | 370279 | ......do | Do.
Pamlico County, Unincorporated Areas | 370181 | ......do | Do.
Pollocksville, Town of, Jones County | 370142 | ......do | Do.
Stonewall, Town of, Pamlico County | 370437 | ......do | Do.
Trenton, Township of, Jones County | 370141 | ......do | Do.
Vanceboro, Town of, Craven County | 370075 | ......do | Do.
Vandemere, Town of, Pamlico County | 370438 | ......do | Do.
Region V
Wisconsin: New Richmond, City of, St. Croix County | 550384 | July 16, 2004, Suspension Notice Rescinded | July 16, 2004.
Region VII
Nebraska:
Dunbar, Village of, Otoe County | 310163 | Aug. 4, 2004, Suspension Notice Rescinded | Aug. 4, 2004.
Otoe County, Unincorporated Areas | 310462 | ......do | Do.
Region V
Minnesota:
Brooklyn Center, City of, Hennepin County | 270151 | Sept. 2, 2004, Suspension Notice Rescinded | Sept. 2, 2004
Camplin, City of, Hennepin County | 270153 | ......do | Do.
Corcoran, City of, Hennepin County | 270155 | ......do | Do.
Crystal, City of, Hennepin County | 270156 | ......do | Do.
Dayton, City of, Hennepin County | 270157 | ......do | Do.
Deephaven, City of, Hennepin County | 270158 | ......do | Do.
Eden Prairie, City of, Hennepin County | 270159 | ......do | Do.
Edina, City of, Hennepin County | 270160 | ......do | Do.
Excelsior, City of, Hennepin County | 270161 | ......do | Do.
Greenfield, City of, Hennepin County | 270673 | ......do | Do.
Hanover, City of, Hennepin County County and Wright County | 270540 | ......do | Do.
Hopkins, City of, Hennepin County | 270166 | ......do | Do.
Independence, City of, Hennepin County | 270167 | ......do | Do.
Long Lake, City of, Hennepin County | 270168 | ......do | Do.
Loretto, City of, Hennepin County | 270659 | ......do | Do.
Maple Plain, City of, Hennepin County | 270170 | ......do | Do.
Medicine Lake, City of, Hennepin County | 270690 | ......do | Do.
Medina, City of, Hennepin County | 270171 | ......do | Do.
Minneapolis, City of, Hennepin County | 270172 | ......do | Do.
Minnetonka, City of, Hennepin County | 270173 | ......do | Do.
Minnetrista, City of, Hennepin County | 270175 | ......do | Do.
Orono, City of, Hennepin County | 270178 | ......do | Do.
Plymouth, City of, Hennepin County | 270179 | ......do | Do.
Richfield, City of, Hennepin County | 270180 | ......do | Do.
Robbinsdale, City of, Hennepin County | 270181 | ......do | Do.
Rockford, City of, Hennepin County | 270182 | ......do | Do.
Spring Park, City of, Hennepin County | 270186 | ......do | Do.
St. Bonifacius, City of, Hennepin County | 270183 | ......do | Do.
St. Louis Park, City of, Hennepin County | 270184 | ......do | Do.
Tonka Bay, City of, Hennepin County | 270187 | ......do | Do.
Wayzata, City of, Hennepin County | 270188 | ......do | Do.
Woodland, City of, Hennepin County | 270189 | ......do | Do.
Region VII
Nebraska:
Deshler, City of, Thayer County | 310218 | Sept. 30, 2004 Suspension Notice Rescinded | Sept. 30, 2004
Hebron, City of, Thayer County | 310219 | ......do | Do.
Hubbell, Village of, Thayer County | 310220 | ......do | Do.
Stanton, City of, Stanton County | 310217 | ......do | Do.
Stanton County, Unincorporated Areas | 310478 | ......do | Do.
Thayer County, Unincorporated Areas | 310479 | ......do | Do.
Region VIII
Montana: Fort Peck Indian Reservation | 300187 | ......do | Do.
* do and Do. = ditto.
** Designates communities converted from Emergency Phase of participation to the Regular Phase of participation.
Code for reading third and fourth columns: Emerg.—Emergency; Reg.—Regular; Rein.—Reinstatement; Susp.—Suspension; With.—Withdrawn; NSFHA—Non Special Flood Hazard Area.

(Catalog of Federal Domestic Assistance No. 83.100, “Flood Insurance.”)
David I. Maurstad,
Acting Director, Mitigation Division, Emergency Preparedness and Response Directorate.

[FR Doc. 04-28321 Filed 12-27-04; 8:45 am]

BILLING CODE 6718-05-P